DEPARTMENT OF HEALTH AND HUMAN SERVICES

National Institutes of Health

Center for Scientific Review Amended; Notice of Meeting

Notice is hereby given of a change in the meeting of the Center for Scientific Review Special Emphasis Panel, November 11, 2014, 02:00 p.m. to November 11, 2014, 03:00 p.m., National Institutes of Health, 6701 Rockledge Drive, Bethesda, MD, 20892 which was published in the Federal Register on October 16, 2014, 79 FR 200 Pg. 62166.

The meeting will be held on December 9, 2014 instead of November 11, 2014. The meeting will start at 12:00 p.m. and will end at 2:00 p.m. The meeting location remains the same. The meeting is closed to the public.

Dated: November 20, 2014.
Carolyn A. Baum,
Program Analyst, Office of Federal Advisory Committee Policy.

[FR Doc. 2014-27936 Filed 11-25-14; 8:45 am]

BILLING CODE 4140-01-P